DEPARTMENT OF TRANSPORTATION

Federal Aviation Administration

14 CFR Part 39

[Docket No. FAA-2020-0854; Project Identifier MCAI-2020-01067-T; Amendment 39-21432; AD 2021-04-11]

RIN 2120-AA64

Airworthiness Directives; Airbus SAS Airplanes

AGENCY: Federal Aviation Administration (FAA), Department of Transportation (DOT).

ACTION: Final rule.

SUMMARY: The FAA is superseding Airworthiness Directive (AD) 2020-01-10, which applied to certain Airbus SAS Model A350-941 airplanes. AD 2020-01-10 required installing flight control and guidance system (FCGS) software (SW) X11 Standard (STD). This AD retains the requirements of AD 2020-01-10, requires modifying the electrical power supply of the air generation system (AGS) ram air outlet door actuators, and expands the applicability by adding airplanes, as specified in a European Union Aviation Safety Agency (EASA) AD, which is incorporated by reference. This AD was prompted by the development of a modification that forces the AGS ram air outlet doors to be flush in cases of total engine flameout or loss of the main electrical supply. Because of this additional modification, certain airplanes that were excluded from the applicability of AD 2020-01-10 are included in the applicability of this AD. The FAA is issuing this AD to address the unsafe condition on these products.

DATES: This AD is effective May 11, 2021.

The Director of the Federal Register approved the incorporation by reference of a certain publication listed in this AD as of May 11, 2021.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0854.

Examining the AD Docket

You may examine the AD docket on the internet at https://www.regulations.gov by searching for and locating Docket No. FAA-2020-0854; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; telephone and fax 206-231-3218; email Kathleen.Arrigotti@faa.gov.

SUPPLEMENTARY INFORMATION:

Background

The EASA, which is the Technical Agent for the Member States of the European Union, has issued EASA AD 2020-0167, dated July 27, 2020 (EASA AD 2020-0167) (also referred to as the Mandatory Continuing Airworthiness Information, or the MCAI), to correct an unsafe condition for certain Airbus A350-941 airplanes.

The FAA issued a notice of proposed rulemaking (NPRM) to amend 14 CFR part 39 to supersede AD 2020-01-10, Amendment 39-19816 (85 FR 6747, February 6, 2020) (AD 2020-01-10). AD 2020-01-10 applied to certain Airbus SAS Model A350-941 airplanes. The NPRM published in the Federal Register on October 1, 2020 (85 FR 61889). The NPRM was prompted by the development of a modification that forces the AGS ram air outlet doors to be flush in cases of total engine flameout or loss of the main electrical supply. Because of this additional modification, certain airplanes that were excluded from the applicability of AD 2020-01-10 are included in the applicability of this AD. The NPRM proposed to retain the requirements of AD 2020-01-10, require modifying the electrical power supply of the AGS ram air outlet door actuators, and expand the applicability by adding airplanes, as specified in EASA AD 2020-0167.

The FAA is issuing this AD to address ram air turbine (RAT) performance that may be below the expected (certificated) level when the landing gear is extended, which could lead to partial or total loss of RAT electrical power generation when the RAT is deployed in an emergency situation, possibly resulting in reduced control of the airplane. See the MCAI for additional background information.

Comments

The FAA gave the public the opportunity to participate in developing this final rule. The following presents the comments received on the NPRM and the FAA's response to each comment.

Support for the NPRM

The Air line Pilots Association, International (ALPA) supported the NPRM.

Request To Revise the Compliance Time for a Certain Action

Delta Air Lines (DAL) requested that the compliance time specified in paragraph (h)(2) of the proposed AD be revised. The commenter requested that the compliance time be changed from March 12, 2020 (the effective date of AD 2020-01-10) to the effective date of the final rule. The commenter also requested that the FAA add an exception to paragraph (h) of the proposed AD allowing the software change specified in paragraph (1) of EASA AD 2020-0167 to be done within 3 years after the effective date of the final rule. The commenter explained that the compliance time in the proposed AD would have started before the date of manufacture of each airplane that would be affected by the proposed AD, therefore operators would have a compressed timeline for accomplishing the required actions. The commenter noted that in corresponding EASA AD 2020-0167, which superseded EASA AD 2019-0203, the compliance time was “within 10 months after September 3, 2019 (the effective date of EASA AD 2019-0203).”

The FAA does not agree with the commenter's request. The actions specified in paragraph (1) of EASA AD 2020-0167 are retained actions that were also required in AD 2020-01-10. The compliance time for those retained actions remains the same in this AD (within 10 months after March 12, 2020 (the effective date of AD 2020-01-10)). Operators have been aware of the software change required by this AD since March 12, 2020; therefore an extension of the compliance time for that action in this final rule is not warranted. New airplanes started receiving the modified software in production prior to July 25, 2019 (the date EASA issued PAD 19-142, which became EASA AD 2019-0203), so there is no justification for extending the compliance time to 3 years after the effective date of this AD. The FAA has not changed this AD in regard to this issue.

Request for Clarification That Reporting Is Not Required

DAL requested that paragraph (h) of the proposed AD be revised to include an exception to clarify that reporting is not required. The commenter noted that in Airbus Service Bulletin A350-21-P038, Revision 1, dated August 31, 2020, submitting certain information to the manufacturer is included in step 3.C.(4). of paragraph 3.C., and that paragraph 3.C. is specified as required for compliance (RC). The commenter noted that the information to be submitted is business related and is not directly related to the unsafe condition addressed in the NPRM.

The FAA agrees with the commenter's request for the reasons provided. The FAA has added paragraph (i) of this AD to specify that reporting is not required. The subsequent paragraphs have been redesignated accordingly.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0167 describes procedures for installing FCGS SW X11 STD and for modifying the electrical power supply of the AGS ram air outlet door actuators. This material is reasonably available because the interested parties have access to it through their normal course of business or by the means identified in the ADDRESSES section.

Costs of Compliance

The FAA estimates that this AD affects 13 airplanes of U.S. registry. The FAA estimates the following costs to comply with this AD:

Estimated Costs for Required Actions
Action | Labor cost | Parts cost | Cost per product | Cost on U.S. operators
Retained actions from AD 2020-01-10 | 8 work-hours × $85 per hour = $680 | $4,650 | $5,330 | $69,290
New actions | 8 work-hours × $85 per hour = $680 | 1,950 | 2,630 | 34,190

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-01-10, Amendment 39-19816 (85 FR 6747, February 6, 2020), and

b. Adding the following new AD:

2021-04-11 Airbus SAS: Amendment 39-21432; Docket No. FAA-2020-0854; Project Identifier MCAI-2020-01067-T.

(a) Effective Date

This airworthiness directive (AD) is effective May 11, 2021.

(b) Affected ADs

This AD replaces AD 2020-01-10, Amendment 39-19816 (85 FR 6747, February 6, 2020) (AD 2020-01-10).

(c) Applicability

This AD applies to Airbus SAS Model A350-941 airplanes, certificated in any category, as identified in European Union Aviation Safety Agency (EASA) AD 2020-0167, dated July 27, 2020 (EASA AD 2020-0167).

(d) Subject

Air Transport Association (ATA) of America Code 21, Air Conditioning; and 42, Flight Control and Guidance System.

(e) Reason

This AD was prompted by a determination through testing that ram air turbine (RAT) performance may be below the expected (certificated) level when the landing gear is extended, and by the development of a modification that forces the air generation system (AGS) ram air outlet doors to be flush in cases of total engine flameout or loss of the main electrical supply. The FAA is issuing this AD to address RAT performance that may be below the expected (certificated) level when the landing gear is extended, which could lead to partial or total loss of RAT electrical power generation when the RAT is deployed in an emergency situation, possibly resulting in reduced control of the airplane.

(f) Compliance

Comply with this AD within the compliance times specified, unless already done.

(g) Requirements

Except as specified in paragraph (h) of this AD: Comply with all required actions and compliance times specified in, and in accordance with, EASA AD 2020-0167.

(h) Exceptions to EASA AD 2020-0167

(1) Where EASA AD 2020-0167 refers to its effective date, this AD requires using the effective date of this AD.

(2) Where EASA AD 2020-0167 refers to September 3, 2019 (the effective date of EASA AD 2019-0203), this AD requires using March 12, 2020 (the effective date of AD 2020-01-10).

(3) The “Remarks” section of EASA AD 2020-0167 does not apply to this AD.

(i) No Reporting Required

Although the service information referenced in EASA AD 2020-0167 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, Large Aircraft Section, International Validation Branch, FAA, 2200 South 216th St., Des Moines, WA 98198; telephone and fax 206-231-3218; email Kathleen.Arrigotti@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 11, 2021.

(i) European Union Aviation Safety Agency (EASA) AD 2020-0167, dated July 27, 2020.

(ii) [Reserved]

(4) For EASA AD 2020-0167, contact the EASA, Konrad-Adenauer-Ufer 3, 50668 Cologne, Germany; telephone +49 221 8999 000; email ADs@easa.europa.eu; internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0854.

(6) You may view this material that is incorporated by reference at the National Archives and Records Administration (NARA). For information on the availability of this material at NARA, email fedreg.legal@nara.gov, or go to: https://www.archives.gov/federal-register/cfr/ibr-locations.html.

Issued on February 8, 2021.
Lance T. Gant,
Director, Compliance & Airworthiness Division, Aircraft Certification Service.

[FR Doc. 2021-07003 Filed 4-5-21; 8:45 am]

BILLING CODE 4910-13-P